DEPARTMENT OF TRANSPORTATION

Pipeline and Hazardous Materials Safety Administration

Office of Hazardous Materials Safety; Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (November to November 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on December 17, 2012.
Donald Burger,
Chief, Special Permits and Approvals Branch.

S.P. No. | Applicant | Regulation(s) | Nature of special permit thereof
Modification Special Permit Granted
15540-M | Andrew Airways, Inc., Kodiak, AK | 49 CFR 175.310(c) | To modify the special permit originally issued on an emergency basis and make it permanent.
11989-M | Department of Defense, Scott AFB, IL | 49 CFR 172.504; 176.83(a), (b), (c)(2)(iii), (d) and (f) | To modify the special permit to authorize an additional Division 2.2 hazardous materials, modify the list of permited guided bombs, packages, and operational controls.
14656-M | PurePak Technology Corporation, Chandler, AZ | 49 CFR 173.158(f)(3) | To modify the special permit to authorize a 2.6 liter capacity square plastic bottle and to allow use of a 500 ml round plastic bottle.
14188-M | IDQ Operating Inc., Tarrytown, NY | 49 CFR 173.304(d), 173.306(a)(3) and 178.33a | To modify the special permit to reflect current statutes and regulations pertaining to consumer commodities.
12396-M | National Aeronautics and Space Administration, Washington, DC | 49 CFR 180.209 and 173.302 | To modify the special permit to authorize rail freight, cargo vessel, and passenger aircraft as additional modes of operation.
New Special Permit Granted
15558-N | 3M Company, St. Paul, MN | 49 CFR 173.212, 172.302(a) (c) | To authorize the manufacture, marking, sale, and use of service motor vehicles for use in transporting a corrosive solid material in alternative packaging. (modes 1, 3)
15626-N | EC Source Aviation, LLC, Mesa, AZ | 49 CFR 49 CFR Parts 172.101, Column (9b), 172.204(c)(3), 173.27(b)(2), 175.30(a)(1), 172.200, 172.300, and 172.400 | To authorize the transportation in commerce of certain hazardous materials by cargo aircraft including by external load in remote areas without being subject to hazard communication requirements and quantity limitations where no other means of transportation is available. (modes 3, 4)
15628-N | E.I. du Pont de Nemours and Company, Wilmington, DE | 49 CFR 179.100-12(c) | To authorize the transportation in commerce of hazardous material in tank cars with a manway housing which allows for opening from either of two sides. (mode 2)
15658-N | Xcel Energy, Monticello, MN | 49 CFR 173.427(b)(1), 173.465(c), 173.465(d) | To authorize the transportation in commerce of certain Radioactive material in alternative packaging by highway. A copy of the environmental assessment can be located at http://www.regulations.gov#!documentDetail;D=PHMSA-2012-0165-0002. (mode 1)
15683-N | CESSCO, Johns Island, SC | 49 CFR 180.209(g) | To authorize the transportation in commerce of certain 4BW240 cylinders that have been tested using an alternative testing procedure. (mode 1)
15698-N | Timberline Helicopters, Inc., Sandpoint, ID | 49 CFR 172.101 Column (9B); 172.204(c)(3); 173.27(b)(2); 175.30(a)(1); 172.200; 172.301(c); 175.75 | To authorize the transportation in commerce of certain hazardous materials by Part 133 Rotorcraft External Load Operations, attached to or suspended from an aircraft, in remote areas of the U.S. without meeting certain hazard communication and stowage requirements. (mode 4)
15712-N | Air Transport International, Little Rock, AR | 49 CFR 172.101 Column (9B); 172.204(c)(3); 173.27(b)(2)(3); 175.30(a)(1) | To authorize the air transportation in commerce of certain explosives which are forbidden for shipment by cargo-only aircraft. (mode 4)
15721-N | Hunter Well Science, Arlington, TX | 49 CFR 173.301(1); 173.304a; 173.304a(a); 173.304a(a)(2) | To authorize the transportation in commerce of a Division 2.2 gas in a non-DOT specification cylinder. (modes 1, 3, 4, 5)
15722-N | Raytheon Missile Systems, Tucson, AZ | 49 CFR 172.101 Column (9B); 172.204(c)(3); 173.27(b)(2)(3); 175.30(a) (1) | To authorize the air transportation in commerce of certain explosives which are forbidden for shipment by cargo-only aircraft. (mode 4)
Emergency Special Permit Granted
15748-N | Wal-Mart Stores, Inc., Bentonville, AR | 49 CFR part 172, part 173 and part 177 | To authorize the one-time, one-way transportation in commerce of certain hazardous materials from damaged or stucturally-impaired retail stores impacted by Hurricane Sandy to a temporary warehousing facility for approximately 10 miles by motor vehicle. (mode 1)
15751-N | Williams Gas Pipeline, White Have, PA | 49 CFR 177.834(h), 178.700(c)(1) | To authorize the use of non-DOT specification metal refueling tanks containing Class 3 liquids and the on and off loading while the container remains on the truck. (mode 1)
15752-N | Hurricane Sandy Response | 49 CFR 173.242 and Part 172 Subpart C, Subpart D, Subpart F and Subpart I | To authorize the transportation in commerce of certain hazardous materials in support of the recovery and relief in response to Hurricane Sandy. (mode 1)
15756-N | United States Environmental Protection Agency Region II, Edison, NJ | 49 CFR Parts 171-180 | To authorize the transportation in commerce of certain hazardous materials in support of the recovery and relief efforts within the Hurricane Sandy disaster areas of New York and New Jersey under conditions that may not meet the Hazardous Materials Regulations. (mode 1)
15761-N | MSD Consumer Care, Inc., Whitehouse Station, NJ | 49 CFR 171.2(g) | To authorize the transportation in commerce of approximately 101,000 DOT Specification 2P inner metal receptacles containing an aerosol sunscreen that were incorrectly marked “DOT-SP 14429.” (mode 1)
Modification Special Permit Withdrawn
14509-M | Pacific Consolidated Industries, LLC, Riverside, CA | 49 CFR 173.302(a)(1), 173.304a(a)(1), 175.3 | To modify the special permit to authorize the transportation in commerce of cylinders containing oxidizing gases without a rigid outer packaging capable of passing the Flame Penetration and Resistance Test and the Thermal Resistance Test.
New Special Permit Withdrawn
15699-N | Flight Express Incorporated, Orlando, FL | 49 CFR 172.203(a); 175.700(b)(2)(ii); 175.702(b) | To authorize the transportation in commerce of radioactive material on cargo only aircraft when the combined transport index exceeds 50.0 and/or the separation criteria cannot be met. (mode 4)
Denied
15664-M | Request by Pollux Aviation Ltd., Wasilla, AK, November 09, 2012.

[FR Doc. 2012-30935 Filed 12-27-12; 8:45 am]

BILLING CODE 4909-60-M